DEPARTMENT OF HEALTH AND HUMAN SERVICES

Centers for Disease Control and Prevention

[60 Day-09-0762]

Proposed Data Collections Submitted for Public Comment and Recommendations

In compliance with the requirement of Section 3506(c)(2)(A) of the Paperwork Reduction Act of 1995 for opportunity for public comment on proposed data collection projects, the Centers for Disease Control and Prevention (CDC) will publish periodic summaries of proposed projects. To request more information on the proposed projects or to obtain a copy of the data collection plans and instruments, call 404-639-5960 or send comments to Maryam Daneshvar, Acting CDC Reports Clearance Officer, 1600 Clifton Road, MS-D74, Atlanta, GA 30333 or send an e-mail to omb@cdc.gov.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology. Written comments should be received within 60 days of this notice.

Proposed Project

Formative Research to Inform an HIV Testing Social Marketing Campaign for African American Men Who Have Sex With Men (MSM), (OMB No. 0920-0762)—Revision—National Center for HIV/AIDS, Viral Hepatitis, Sexually Transmitted Diseases, and Tuberculosis Elimination Programs (NCHHSTP), Centers for Disease Control and Prevention (CDC).

Background and Brief Description

The purpose of the proposed study is to conduct formative research to inform the development of the HIV Testing Social Marketing Campaign for African American MSM, a CDC-sponsored social marketing campaign aimed at increasing HIV testing rates among young, African American MSM. The study entails conducting interviews with a sample of African American MSM, ages 18 to 44 to: (1) Explore participants' knowledge, attitudes and beliefs about HIV and HIV testing to inform the development of campaign messages; (2) identify the most motivating approach, supporting data, and key messages for materials development; (3) test creative concepts, potential campaign themes, logos and names; and (4) test creative materials developed based on the findings from the previous phases of the research. Findings from this study will be used by CDC and its partners to inform current and future program activities.

A total of 288 participants will be screened for eligibility in order to find 144 people who will participate in an interview. All interview participants (n=144) will complete a short “Paper and Pencil” questionnaire. There are no costs to the respondents other than their time.

Estimated Annualized Burden Table
Types of data collection | No. of respondents | No. of responses per respondent | Average burden per response (in hours) | Total burden (in hours)
Screener | 288 | 1 | 10/60 | 48
Consent Form | 144 | 1 | 5/60 | 12
Interview | 144 | 1 | 1 | 144
Paper and Pencil Survey | 144 | 1 | 10/60 | 24
Total |  |  |  | 228

Dated: February 13, 2009.
Maryam I. Daneshvar,
Acting Reports Clearance Officer, Centers for Disease Control and Prevention.

[FR Doc. E9-3657 Filed 2-19-09; 8:45 am]

BILLING CODE 4163-18-P